DEPARTMENT OF AGRICULTURE

Animal and Plant Health Inspection Service

[Docket No. 05-016-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection associated with proposed regulations for the payment of compensation in the event of an outbreak of foot-and-mouth disease in the United States.

DATES: We will consider all comments that we receive on or before June 20, 2005.

ADDRESSES: You may submit comments by any of the following methods:

EDOCKET: Go to http://www.epa.gov/feddocket to submit or view public comments, access the index listing of the contents of the official public docket, and to access those documents in the public docket that are available electronically. Once you have entered EDOCKET, click on the “View Open APHIS Dockets” link to locate this document.

Postal Mail/Commercial Delivery: Please send four copies of your comment (an original and three copies) to Docket No. 05-016-1, Regulatory Analysis and Development, PPD, APHIS, Station 3C71, 4700 River Road Unit 118, Riverdale, MD 20737-1238. Please state that your comment refers to Docket No. 05-016-1.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information on the Internet at http://www.aphis.usda. gov/ppd/rad/webrepor.html.

FOR FURTHER INFORMATION CONTACT: For information concerning the proposed regulations for payment of compensation if foot-and-mouth disease occurred in the United States, contact Dr. Mark Teachman, Senior Staff Veterinarian, Emergency Management Staff, VS, APHIS, 4700 River Road Unit 41, Riverdale, MD 20737; (301) 734-8908. For copies of more detailed information on the information collection, contact Mrs. Celeste Sickles, APHIS* Information Collection Coordinator, at (301) 734-7477.

SUPPLEMENTARY INFORMATION: Title: Foot-and-Mouth Disease Payment of Indemnity; Update of Provisions.

OMB Number: 0579-0199.

Type of Request: Extension of approval of an information collection.

Abstract: The Animal and Plant Health Inspection Service (APHIS) of the United States Department of Agriculture administers regulations at 9 CFR part 53 that provide for the payment of indemnity to owners of animals that are required to be destroyed because of foot-and-mouth disease (FMD), pleuropneumonia, rinderpest, exotic Newcastle disease, highly pathogenic avian influenza, infectious salmon anemia, spring viremia of carp, or any other communicable disease of livestock or poultry that in the opinion of the Secretary of Agriculture constitutes an emergency and threatens the U.S. livestock or poultry population. The regulations authorize payments based on the fair market value of the animals destroyed, as well as payments for their destruction and disposal. The regulations also authorize payments for materials that must be cleaned and disinfected or destroyed because of being contaminated by or exposed to disease.

As a result of a review of part 53 by APHIS, in part due to past outbreaks of FMD in the United Kingdom and elsewhere around the world, we proposed changes to the regulations to help ensure a successful control and eradication program in the event of an outbreak of FMD in the United States (see 67 FR 21934-21959, APHIS Docket No. 01-069-1, May 1, 2002). The proposed rule would require eligible persons to submit claims for compensation resulting from the destruction of animals and related expenses using forms approved by APHIS. Claimants would also be expected to provide any supporting documentation that would assist the Administrator in verifying the quantity and value of animals or materials destroyed and the costs of their disposition, and the costs of cleaning and disinfection.

We are asking the Office of Management and Budget (OMB) to approve this information collection for an additional 3 years.

The estimate below shows a minimal burden of 1 hour total because we believe that an FMD outbreak in the United States is unlikely. Therefore, we currently are not collecting information and do not plan to collect information unless an outbreak of FMD occurs. In that event, we would review the estimated number of respondents and estimated burden based on the number of expected respondents in that situation.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 1 hour per response.

Respondents: Owners of animals and materials destroyed, other claimants incurring costs for which compensation might be sought, and program support personnel including accredited veterinarians, State animal health officials, and local authorities who would be providing assistance in the event of a national animal disease emergency.

Estimated annual number of respondents: 1.

Estimated annual number of responses per respondent: 1.

Estimated annual number of responses: 1.

Estimated total annual burden on respondents: 1 hour. (Due to averaging, the total annual burden hours may not equal the product of the annual number of responses multiplied by the reporting burden per response.)

All responses to this notice will be summarized and included in the request for OMB approval. All comments will also become a matter of public record.

Done in Washington, DC, this 14th day of April 2005.
Elizabeth E. Gaston,
Acting Administrator, Animal and Plant Health Inspection Service.

[FR Doc. E5-1862 Filed 4-19-05; 8:45 am]

BILLING CODE 3410-34-P